DEPARTMENT OF TRANSPORTATION

Federal Highway Administration

Notice To Rescind a Notice of Intent To Prepare an Environmental Impact Statement: Highway US-30, Schuyler to Fremont Colfax and Dodge Counties, NE

AGENCY: Federal Highway Administration (FHWA), DOT.

ACTION: Notice to rescind a Notice of Intent.

SUMMARY: The FHWA is issuing this notice to advise the public that the Notice of Intent (NOI) for the preparation of an Environmental Impact Statement for the US Highway 30, Schuyler to Fremont project in Colfax and Dodge Counties, Nebraska, is being rescinded. The NOI was published in the Federal Register on August 29, 2005. This rescission is based on the desire of the Nebraska Department of Roads to fund the project entirely with newly acquired state funds. NDOR plans to have the improvements completed with state funds in the FY 2016-2019 timeframe.

FOR FURTHER INFORMATION CONTACT: Melissa Maiefski, Program Delivery Team Lead, FHWA, Nebraska Division, 100 Centennial Mall North, Room 220, Lincoln, Nebraska 68508, Telephone: (402)742-8473.

SUPPLEMENTARY INFORMATION: On August 29, 2005, FHWA and NDOR announced their intent to prepare an EIS pursuant to 40 CFR 1508.22 for the proposed improvements along a 26-mile segment of US-30, from Schuyler, Nebraska to Fremont, Nebraska. In an effort to develop a preliminary purpose and need statement and a reasonable range of alternatives, the NDOR convened a local public interest advisory group in 2005, which was comprised of residents, stakeholders, and local officials from the study area. In December 2006, the advisory group prepared a majority and a minority recommendation for a locally preferred solution, along with other reasonable alternatives. This recommendation was to be considered in the development of the range of alternatives to be studied in the EIS. After completion of the advisory group's work, NDOR reviewed the Statewide Transportation Improvement Program (STIP) and determined that funding for construction of the project was not likely to be available for the foreseeable future; therefore, the environmental process was halted until a financial plan could be identified. In 2009, the United States Army Corps of Engineers (USACE) began public meetings related to a Section 205 study of flood protection measures for the City of Fremont that included alternatives in the US-30 corridor. Although funding for construction of US-30 improvements was still uncertain, NDOR and FHWA determined that it would be beneficial for the US-30 environmental process to resume, coordinated with the USACE improvements. In 2011, NDOR was beginning to draft a Coordination Plan in accordance with Section 6002 of SAFETEA-LU to outline the process of agency and public participation during the environmental review process, when the Nebraska State Legislature enacted LB84, legislation which will divert ¼ cent of the sales tax revenue for road construction projects for the next 20 years, beginning in 2013. NDOR has requested to rescind the Notice of Intent to Prepare an EIS due to the enactment of LB84 and the resulting availability of state funds to deliver this project. Further, NDOR will continue to coordinate closely with appropriate agencies, seek public involvement, and undergo environmental evaluations pursuant to their State environmental process. Comments or questions concerning the rescission of this proposed action and the EIS should be directed to the FHWA at the address provided above.

Authority: 23 U.S.C. 315; 49 CFR 1.48.

Dated: February 28, 2012.
Joseph A. Werning,
Division Administrator, Nebraska.

[FR Doc. 2012-5462 Filed 3-6-12; 8:45 am]

BILLING CODE 4910-22-P